DEPARTMENT OF THE INTERIOR

Bureau of Land Management

[AK-310-2810-DG]

Notice of Intent To Amend Land Use Plans and Prepare an Associated Environmental Assessment

AGENCY: Bureau of Land Management, Interior.

ACTION: Notice of intent to amend land use plans in Alaska and prepare an Associated Environmental Assessment.

SUMMARY: This document provides notice that the Bureau of Land Management (BLM) intends to address wildland fire and fuels management in its land use plans, through a statewide plan amendment and Environmental Assessment (EA). This amendment will provide a consistent approach for incorporating current wildland fire and fuels management policy into land use plans in order to comply with the National Fire Plan and 2001 Federal Fire Policy. It will also provide interim guidance for wildland fire and fuels management on BLM-managed lands for which completion of new land use plans is scheduled or on-going. The amendment will include an analysis of fire and fuels management actions on a landscape scale and their impacts on the human environment. An EA level analysis is anticipated to be sufficient to address the complexity of known issues.

The amendment will provide wildland fire and fuels management direction to all public lands managed by the Anchorage, Glennallen and Northern Field Offices. The following land use plans will be addressed during this amendment process and amended as appropriate: the Southwest Management Framework Plan (MFP), Southcentral MFP, Fortymile MFP, Northwest MFP, Central Yukon Resource Management Plan (RMP), White Mountains National Recreation Area RMP, Utility Corridor RMP, Fort Wainwright RMP, Fort Greely RMP, and the Steese National Conservation Area RMP. Fire management direction will also be developed for the National Petroleum Reserve-Alaska in conjunction with this planning effort.

Several concurrent land use planning efforts will be occurring at each Field Office. These include the Ring of Fire RMP (Anchorage Field Office, draft due 2004, final 2005), the Kobuck-Seward RMP (Northern Field Office, scheduled to begin 2004), and the East Alaska RMP (Glennallen Field Office, draft due 2004, final 2005). The fire decisions reached through the fire planning effort outlined in this Federal Register notice will be incorporated into these and other future land use planning efforts as they are completed.

The Federal Land Policy and Management Act (FLPMA) planning process (43 CFR 1600) will be used for all lands, except for the Alaska Petroleum Reserve-Alaska lands, which are not governed by the FLPMA planning process. The BLM will work closely with interested parties to identify the management decisions that are best suited to the needs of the public. This process will take into account local, regional and national needs and concerns. This includes public and firefighter safety. This notice initiates the public scoping process to identify specific issues and develop planning criteria. The scoping process will include an evaluation of the needs and interests of the public.

DATES: The scoping comment period will commence with the publication of this notice and end 60 days after publication. Comments regarding issues and planning criteria should be received on or before the end of the scoping period. Specific dates and locations for public participation will be published in local papers and broadcast on local community calendars at a later date.

ADDRESSES: Comments regarding the Wildland Fire and Fuels Management Land Use Plan Amendment for Alaska should be sent to: Planning and Environmental Coordinator, Bureau of Land Management, Alaska Fire Service, P.O. Box 35005, Ft. Wainwright, AK 99703.

FOR FURTHER INFORMATION CONTACT: Mary Lynch, Planning and Environmental Coordinator, Bureau of Land Management, Alaska Fire Service, P.O. Box 35005, Ft. Wainwright, AK 99703, (907) 356-5863.

SUPPLEMENTARY INFORMATION: Comments, including names and street addresses of respondents, will be available for public review at the above address during regular business hours 7:30 a.m. to 4:30 p.m., Monday through Friday, except holidays, and may be published as part of the EA. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety. Documents pertinent to this proposal may be examined at the Alaska Fire Service at the address listed above.

Fire suppression in Alaska has been addressed on an interagency, multi-jurisdictional, landscape scale in the Alaska Interagency Wildland Fire Management Plan 1998 (AIWFMP). Four appropriate management responses defined as Management Options (Critical, Full, Limited, and Modified) are identified in the plan. The four management options offer land managers a choice of the full range of suppression alternatives. Aggressive initial attack to surveillance to be implemented by the suppression organizations are options that have been included. BLM-managed lands in Alaska have designated management options. However, wildland fire management encompasses more than suppression actions. A spectrum of fire and fuels management activities to achieve ecosystem sustainability, accomplish resource-related objectives and protect communities or public safety are available. Current Federal fire policy states that land use plans will define and identify overall wildland fire and fuel management direction to meet land use and resource management objectives.

The proposed plan amendment and planning process would improve wildland fire management on BLM-managed lands in Alaska and more adequately integrate fire management direction with resource objectives by: (1) Reviewing management option designations and documenting related resource objectives and criteria to evaluate changing those designations (2) establishing broad objectives for wildland fire and fuels management, (3) identifying general guidelines for fuel treatments, and (4) identifying general restrictions for fire management practices. Anticipated issues for the plan amendments include: protection of human life, protection of property, protection of natural and cultural resources, integration of fire and resource management, and wildlife habitat. The interdisciplinary planning team will be comprised of resource specialists with the expertise necessary to address these issues.

The planning process will allow the public, Native organizations, State and Federal agencies, local elected officials, and BLM subject matter specialists to participate in scoping and alternative development and analysis. Public scoping to identify specific issues to be addressed in the plan will be an early opportunity for the public to provide input. Subsequent opportunities for public involvement will occur at specific stages in the planning process. Agency representatives and interested persons are invited to contact Alaska Fire Service officials at any time during the EA process.

Dated: August 19, 2003.
Henri Bisson,
Alaska State Director.

[FR Doc. 03-25286 Filed 10-14-03; 8:45 am]

BILLING CODE 4310-JA-P